DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 2, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Farm Loan Program (FLP)—Guaranteed Farm Loans.

OMB Control Number: 0560-0155.

Summary of Collection: FLP administers to make and service loans guaranteed to the eligible farmers and ranchers to comply with the regulations of 7 CFR part 762, Guaranteed Farm Loans and 7 CFR part 763, Land Contract Guaranteed Loans. The loans made and serviced include farm operating and farm ownership loans. FSA also provides guarantees of loans made by private sellers of a farm or ranch on a land contract sales basis; although this program is rarely used. The reporting requirements imposed on the public by the regulations at 7 CFR part 762 and 7 CFR part 763 are necessary to administer the Farm Loan Program guaranteed loan program.

Need and Use of the Information: FSA uses the forms and written evidence to collect needed information. The basis objective of the guaranteed loan program is to provide credit to applicants who are unable to obtain credit from lending institutions without a guarantee. The information collected is used to determine lender and loan applicant eligibility for farm loan guarantees, and to ensure the lender protects the Government's financial interest. The information FSA collects is needed to effectively administer the FSA guaranteed farm loan programs. The information is collected by the FSA loan official in consultation with participating lenders.

Description of Respondents: Farms; Business or other for-profit.

Number of Respondents: 9,063.

Frequency of Responses: Reporting: Other (when applying for loans).

Total Burden Hours: 154,631.

Farm Service Agency

Title: Farm Loan Program, General Program Administration.

OMB Control Number: 0560-0238.

Summary of Collection: Farm Loan Program (FLP) in the Farm Service Agency provides loans to family farmers to purchase real estate and equipment and finance agricultural production to comply the regulation of 7 CFR part 761, General Program Administration.

Need and Use of the Information: Information collections are submitted by applicants and borrowers to the local FSA office serving the county in which their business is headquartered. The information is necessary to provide supervised credit as legislatively mandated and is used by FSA to:

• Ensure that when loan funds or insurance proceeds are used for construction and development projects, work is completed according to applicable State and local requirements, and in a manner that protects the Government's financial interest.

• Ensure that the loan repayment plan is developed using realistic data, based on the operation's actual history and any planned improvements.

• Identify potential concerns limiting the success of the operation and develop a loan assessment outlining the course of action to be followed, to improve the operation so that commercial credit is available.

The general nature of a loan from FSA is very similar to that of any conventional commercial creditor. However, FSA applicants and borrowers tend to pose more of an economic risk of loss than those operations financed by commercial credit sources, as applicants must document that no other source of credit is available at the time of application. Legislation requires FSA to actively supervise these borrowers and provide credit counseling, management advice, and financial guidance. Also, FLP provides either a prompt payment or standard guarantee plan to sellers who enter into a land contract with a beginning or socially disadvantaged farmers to comply with the regulation of 7 CFR part 763, Land Contract Guarantee Loan but have not received any requests for land contract.

FLP is mandated to provide supervised credit; therefore, failure to collect the information, or collecting it less frequently, could result in the failure of the farm operation or loss of agency security property.

Description of Respondents: Business or other for-profit; farms.

Number of Respondents: 64,802.

Frequency of Responses: Reporting: On occasion; annually.

Total Burden Hours: 149,426.

Ruth Brown,
Departmental Information Collection Clearance Officer.

[FR Doc. 2023-18965 Filed 8-31-23; 8:45 am]

BILLING CODE 3410-05-P